DEPARTMENT OF THE INTERIOR

Bureau of Land Management

[LLAZ910000.L14300000.DB0000.LXSS058A0000]

Notice of Segregation of Public Lands in the State of Arizona for the Restoration Design Energy Project—Agua Caliente Solar Energy Zone in Yuma County, AZ

AGENCY: Bureau of Land Management, Interior.

ACTION: Notice.

SUMMARY: The Bureau of Land Management (BLM) is segregating public lands located in the State of Arizona from all forms of appropriation under the public land laws, including the mining law, but excluding the mineral leasing or materials sale laws, for a period of up to 2 years. This is for the purpose of protecting potential sites for future solar energy development while they are being analyzed in the Restoration Design Energy Project (RDEP). The public lands contained in this segregation total approximately 20,776 acres in Yuma County.

DATES: This segregation is effective on February 13, 2012.

FOR FURTHER INFORMATION CONTACT: Lane Cowger, BLM Deputy Project Manager; telephone: 602-417-9612; address: One North Central Avenue, Suite 800, Phoenix, Arizona 85004-4427; or email: az_arra_rdep@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This segregation of public lands corresponds with the analysis of these same public lands as a proposed Solar Energy Zone (SEZ) in the RDEP. The analysis will establish whether some or all of these lands are suitable for utility-scale solar energy development. Decisions about the suitability of the lands as a SEZ will be included in the RDEP record of decision, which is scheduled to be completed in late 2012. More information on the RDEP is available on the project Web site at: http://www.blm.gov/az/st/en/prog/energy/arra_solar.html.

The following described lands to be segregated are located in Yuma County, Arizona:

Gila and Salt River Meridian

Agua Caliente SEZ

T. 4 S., R. 11 W.,

Sec. 19;

Sec. 29, N½ and SW¼;

Secs. 30 and 31.

T. 4 S., R. 12 W.,

Sec. 14, SW¼SW¼;

Sec. 15, S½S½;

Sec. 16, SE¼SW¼ and S½SE¼;

Sec. 19, E½SE¼ and SW¼SE¼;

Sec. 20, E½, SE¼NW¼, and SW¼;

Secs. 21 and 22;

Sec. 23, W½W½;

Secs. 24 and 25;

Sec. 26, W½;

Secs. 27, 28, and 29;

Sec. 30, E½ and NE¼NW¼;

Sec. 31, E½NE¼, NW¼NE¼, E½SW¼NE¼, and E½NE¼SE¼;

Secs. 32, 33, and 34;

sec. 35, lot 1, W½NW¼ and NW¼SW¼;

Sec. 36.

T. 5 S., R. 11 W.,

Sec. 5, lots 3 and 4, S½NW¼, and SW¼;

Secs. 6 and 7;

Sec. 18, lots 1 to 4, inclusive, NE¼, and E½W½;

Sec. 19, lot 1, and N½NE¼NW¼.

T. 5 S., R. 12 W.,

Sec. 2, lots 1 to 4, inclusive, S½N½, SW¼, W½SE½, and NE¼SE¼;

Sec. 3;

Sec. 4, lots 1 to 4, inclusive, S½NE¼, SE¼NW¼, NE¼SW¼, and SE¼;

Sec. 5, lot 4, NE¼SW¼NW¼, E½NE¼SW¼, and SE¼;

Sec. 8, E½NE¼, E½NW¼NE¼, SW¼NE¼, SW¼SW¼, E½SW¼, and SE¼;

Sec. 9, E½NE¼ and NE¼SE¼;

Sec. 10;

Sec. 15, E½, E½NW¼, NW¼NW¼;

Sec. 17;

Sec. 18, lot 4, E½E½, SW¼NE¼, E½SW¼, and W½SE¼;

Sec. 19, lots 1 and 2, NE¼, E½NW¼, and N½SE¼;

Sec. 20;

Sec. 22, E½E½;

Sec. 23, W½;

Sec. 26, N½NW¼;

Sec. 28, W½E½ and W½;

Sec. 29;

Sec. 33, NW¼NW¼NE¼, N½NW¼, and NW¼SW¼NW¼.

T. 5 S., R. 13 W.,

Sec. 24, lots 1 and 2, and E½SW¼NE¼.

The areas described aggregate 20,776 acres, more or less, in Yuma County.

In order to protect potential sites for future solar energy development, the BLM is segregating the lands under the authority contained in 43 CFR 2091.3-1(e) and 43 CFR 2804.25(e) for a period of up to 2 years, subject to valid existing rights. This segregation period will commence on February 13, 2012. The public lands involved in this notice will be segregated from all forms of appropriation under the public land and mining laws, but not the Mineral Leasing Act of 1920 or the Materials Act of 1947. It has been determined that this segregation is necessary for the orderly administration of the public lands that have been identified by the BLM as having potential for solar energy generation.

The temporary segregation period will terminate and the lands will automatically reopen to all forms of appropriation under the public land laws, including the mining laws, on February 13, 2014 unless, prior to the end of the 2-year period, the BLM publishes a Federal Register notice terminating the segregation.

Authority: 43 CFR 2091.3-1(e), 43 CFR 2804.25(e).

Raymond Suazo,
State Director.

[FR Doc. 2012-3241 Filed 2-10-12; 8:45 am]

BILLING CODE 4310-32-P